INTERNATIONAL TRADE COMMISSION

Agency Form Submitted for OMB Review

AGENCY: International Trade Commission.

ACTION: The U.S. International Trade Commission (USITC) has submitted the following information collection requirements to the Office of Management and Budget (OMB) for review and clearance under the Paperwork Reduction Act of 1995, (44 U.S.C. chap. 35), requesting extension of a currently approved collection (OMB No.: 3117-0190).

EFFECTIVE DATE: March 27, 2003.

Purpose of Information Collection: The requested extension of a currently approved collection (USITC DataWeb user registration form) is for use by the Commission. The user registration form is required to accurately track usage, data reports generated, and costs by user sectors. The form would appear on the ITC DataWeb Internet site (http://dataweb.usitc.gov) and would need to be filled out only once.

Public Comments Regarding the Information Collection: OMB is required to make a decision concerning extension of this currently approved collection between 30 and 60 days after publication of this notice. To be assured of consideration, comments must be received not later than 30 days after publication of this notice, at OMB by the Desk Officer/USITC.

Summary of Proposal: (1) Number of forms submitted: One. (2) Title of forms: ITC Tariff and Trade DataWeb: “Create New User Account Form”. (3) Type of request: Extension. (4) Frequency of use: Single data gathering. (5) Description of respondents: Government and private sector users of the on-line ITC DataWeb. (6) Estimated number of respondents: 10,000 new users annually. (7) Estimated total number of minutes to complete the forms: 2.0 minutes. (8) Information obtained from the form that qualifies as confidential business information will be so treated by the Commission and not disclosed in a manner that would reveal the individual operations of a firm.

Additional Information or Comment: Copies of the survey and draft Supporting Statement submitted to the Office of Management and Budget will be posted on the Commission's World Wide Web site at http://www.usitc.gov or the agency submissions to OMB in connection with this request may be obtained from Peg MacKnight, Office of Operations, U.S. International Trade Commission, 500 E Street, SW., Washington, DC 20436 (telephone no. 202-205-3418). Comments should be addressed to: Desk Officer for U.S. International Trade Commission, Office of Information and Regulatory Affairs, Office of Management and Budget (OMB), Washington, DC 20503 (telephone no. 202-395-3897). Copies of any comments should also be provided to Robert Rogowsky, Director of Operations, U.S. International Trade Commission, 500 E Street, SW., Washington, DC 20436, who is the Commission's designated Senior Official under the Paperwork Reduction Act.

Hearing impaired individuals are advised that information on this matter can be obtained by contacting our TTD terminal (telephone no. 202-205-1810).

Issued: March 18, 2003.
By order of the Commission.
Marilyn R. Abbott,
Secretary to the Commission.

[FR Doc. 03-6941 Filed 3-21-03; 8:45 am]

BILLING CODE 7020-01-P